DEPARTMENT OF ENERGY

Federal Energy Regulatory Commission

[Project No. 3253-014]

Mad River Power Associates LP; Notice of Intent To File License Application, Filing of Pre-Application Document, Approving Use of the Traditional Licensing Process

a. Type of Filing: Notice of Intent to File License Application and Request to Use the Traditional Licensing Process.

b. Project No.: 3253-014.

c. Date Filed: October 17, 2017.

d. Submitted By: Mad River Power Associates LP.

e. Name of Project: Campton Hydroelectric Project.

f. Location: On the Mad River, in the Town of Campton, Grafton County, New Hampshire. The project occupies approximately 0.1 acre of United States lands administered by the United States Forest Service.

g. Filed Pursuant to: 18 CFR 5.3 and 5.5 of the Commission's regulations.

h. Potential Applicant Contact: Ian Clark, Managing Partner, Mad River Power Associates LP, 826 Scarsdale Avenue, Scarsdale, NY 10583; (914) 297-7645.

i. FERC Contact: Dr. Nicholas Palso at (202) 502-8854; or email at nicholas.palso@ferc.gov.

j. Mad River Power Associates LP filed its request to use the Traditional Licensing Process on October 17, 2017. Mad River Power Associates LP provided public notice of its request on October 22, 2017. In a letter dated December 13, 2017, the Director of the Division of Hydropower Licensing approved Mad River Power Associates LP's request to use the Traditional Licensing Process.

k. With this notice, we are initiating informal consultation with the U.S. Fish and Wildlife Service and NOAA Fisheries under section 7 of the Endangered Species Act and the joint agency regulations thereunder at 50 CFR, Part 402; and NOAA Fisheries under section 305(b) of the Magnuson-Stevens Fishery Conservation and Management Act and implementing regulations at 50 CFR 600.920. We are also initiating consultation with the New Hampshire State Historic Preservation Officer, as required by section 106 of the National Historic Preservation Act, and the implementing regulations of the Advisory Council on Historic Preservation at 36 CFR 800.2.

l. With this notice, we are designating Mad River Power Associates LP as the Commission's non-federal representative for carrying out informal consultation pursuant to section 7 of the Endangered Species Act and section 305(b) of the Magnuson-Stevens Fishery Conservation and Management Act; and consultation pursuant to section 106 of the National Historic Preservation Act.

m. Mad River Power Associates LP filed a Pre-Application Document (PAD; including a proposed process plan and schedule) with the Commission, pursuant to 18 CFR 5.6 of the Commission's regulations.

n. A copy of the PAD is available for review at the Commission in the Public Reference Room or may be viewed on the Commission's website (http://www.ferc.gov), using the “eLibrary” link. Enter the docket number, excluding the last three digits in the docket number field to access the document. For assistance, contact FERC Online Support at FERCOnlineSupport@ferc.gov, (866) 208-3676 (toll free), or (202) 502-8659 (TTY). A copy is also available for inspection and reproduction at the address in paragraph h.

o. The licensee states its unequivocal intent to submit an application for a subsequent license for Project No. 3253. Pursuant to 18 CFR 16.20 each application for a subsequent license and any competing license applications must be filed with the Commission at least 24 months prior to the expiration of the existing license. All applications for license for this project must be filed by October 31, 2020.

p. Register online at http://www.ferc.gov/docs-filing/esubscription.asp to be notified via email of new filing and issuances related to this or other pending projects. For assistance, contact FERC Online Support.

Dated: December 13, 2017.
Kimberly D. Bose,
Secretary.

[FR Doc. 2017-27333 Filed 12-19-17; 8:45 am]

BILLING CODE 6717-01-P